DEPARTMENT OF COMMERCE

National Oceanic and Atmospheric Administration

[I.D. 082602C]

Endangered and Threatened Species; Take of Anadromous Fish

AGENCY: National Marine Fisheries Service (NMFS), National Oceanic and Atmospheric Administration, Commerce

ACTION: Notice of Issuance of enhancement permits 1196 and 1300.

SUMMARY: NMFS has issued permit 1196 to the State of Washington Department of Fish and Wildlife (WDFW) and permit 1300 to the U.S. Fish and Wildlife Service (USFWS), Interior.

ADDRESSES: Copies of the permits may be obtained from the Hatcheries and Inland Fisheries Branch, Sustainable Fisheries Division, NMFS, 525 N.E. Oregon Street, Suite 510, Portland, OR 97232.

FOR FURTHER INFORMATION CONTACT: Kristine Petersen, Portland, OR at phone number: (503) 230-5409, e-mail: Kristine.Petersen@noaa.gov

SUPPLEMENTARY INFORMATION: The following species and evolutionarily significant units (ESUs) are covered in this notice:

Spring Chinook Salmon (Oncorhynchus tshawytscha): endangered Upper Columbia River (UCR), and

Steelhead (Oncorhynchus mykiss): endangered UCR.

Permits

Permit 1196 was issued to WDFW on August 16, 2002, and permit 1300 was issued to USFWS on August 16, 2002. Permits 1196 and 1300 authorize WDFW and USFWS take of naturally produced and artificially propagated ESA-listed anadromous fish associated with the operation of hatchery programs for endangered UCR spring chinook salmon. Permits 1196 and 1300 expire December 31, 2007.

Permit 1196 authorizes WDFW artificial propagation programs designed to supplement natural spawning populations in the Wenatchee River and Methow River basins. WDFW's program includes the collection of ESA-listed adults for broodstock, the use of artificial propagation in a hatchery environment, the rearing of artificially spawned progeny in the hatcheries, and the release of artificially propagated juveniles in their respective streams of origin. Incremental changes in production levels in response to adult escapement levels, predetermined means to manage stray fish, and two approaches for population separation are some strategies that will be employed to minimize risks to listed populations. All aspects of the program will be monitored in a manner that allows comparison of the effectiveness of alternative strategies.

WDFW operates two hatchery complexes within the mid- and upper Columbia River Basin for the propagation of spring chinook salmon: The Methow Fish Hatchery Complex and the Rock Island Fish Hatchery Complex. These complexes are funded by the local Public Utility Districts in the upper Columbia River region to mitigate the impacts of the hydropower dams on the mainstem Columbia River. The Methow Complex uses returning spring chinook salmon adults collected at the Methow State Fish Hatchery, and/or weirs on the Methow River tributaries, the Twisp and Chewuch Rivers. Adult spring chinook salmon used for broodstock may also be collected at Wells Dam. The Rock Island Complex uses spring chinook salmon broodstock collected at weirs on the Chiwawa River and Nason Creek, tributaries to the Wenatchee River, and at Tumwater Dam on the mainstem Wenatchee River. WDFW's Eastbank Hatchery is part of the Rock Island Complex. WDFW-managed satellite facilities included within the two complexes are the Twisp Pond, Chiwawa Ponds, Chewuch Pond and the aforementioned adult collection weirs on the Methow, Chiwawa, Twisp, Chewuch rivers and Nason Creek. Permit 1196 will also authorize the annual incidental take of ESA-listed UCR steelhead associated with broodstock collection activities, hatchery operations, and juvenile fish releases from the program.

Permit 1300 authorizes USFWS' artificial propagation program designed to supplement the natural spawning populations in the Methow River Basin. The USFWS' program includes the collection of ESA-listed adults for broodstock, the use of artificial propagation in a hatchery environment, the rearing of artificially spawned progeny in the hatcheries, and the release of artificially propagated juveniles in their respective stream of origin. This program is operated in coordination with the WDFW program in the Methow River Basin (Permit #1196). Incremental changes in production levels in response to adult escapement levels, predetermined means to manage stray fish, and two approaches for population separation are some strategies that will be employed to minimize risks to listed populations. All aspects of the program will be monitored in a manner that allows comparison of the effectiveness of alternative strategies.

USFWS operates three Federal hatcheries within the Upper Columbia River Basin: Leavenworth, Entiat and Winthrop National Fish Hatcheries (NFH). These facilities rear non-listed spring chinook salmon to mitigate for impacts from the construction of the Grand Coulee Dam and Basin Project. Mitigation was authorized by the Grand Coulee Fish Maintenance Project, April 3, 1937. These facilities are currently operated by the USFWS and funded by the Bureau of Reclamation. The Winthrop NFH is located on the Methow River 1 mile downstream of the Methow Fish Hatchery. The Winthrop NFH is shifting production from non-listed Carson stock spring chinook salmon to listed Methow River composite stock spring chinook salmon. A proportion of the Methow composite stock broodstock collected by WDFW at Wells Dam, the Methow Fish Hatchery and/or at weirs on the Methow River tributaries, the Twisp and Chewuch Rivers (Permit 1196), may be transferred to Winthrop NFH. Additional broodstock will be collected from volunteers to the Winthrop NFH, and/or collected from Methow Fish Hatchery outfall. Hatchery spring chinook salmon produced at Winthrop NFH may be released on-station or transferred to WDFW satellite facilities: Twisp Pond, and Chewuch Pond. Permit 1300 also authorizes the annual incidental take of ESA-listed UCR steelhead associated with broodstock collection activities, hatchery operations, and juvenile fish releases from the program.

While the hatchery programs have the potential to cause deleterious direct and indirect effects on the ESA-listed species, such as maladaptive genetic, physiological, or behavioral changes in donor or target populations, the programs will continue to be necessary to prevent the extinction of the UCR spring chinook salmon ESU until habitat conditions that limit the productivity of naturally-produced spring chinook salmon in the region can be improved. Measures are described in the permits to minimize such deleterious effects to the extent possible.

NMFS' conditions in the permits will ensure that the takes of ESA-listed anadromous fish will not jeopardize the continued existence of the listed species. In issuing the permits, NMFS determined that WDFW's and USFWS' Conservation Plans provide adequate mitigation measures to avoid, minimize, and/or compensate for the anticipated takes of ESA-listed anadromous fish.

Issuance of these permits, as required by the ESA, was based on a finding that such permits: (1) were applied for in good faith; (2) will not operate to the disadvantage of the listed species which are the subject of the permits; and (3) is consistent with the purposes and policies set forth in section 2 of the ESA. These permits were issued in accordance with, and are subject to, 50 CFR part 222, the NMFS regulations governing listed species permits.

Dated: September 9, 2002.
Chris Mobley,
Acting Chief, Endangered Species Division,Office of Protected Resources, National Marine Fisheries Service.

[FR Doc. 02-23400 Filed 9-12-02; 8:45 am]

BILLING CODE 3510-22-S